INTERNATIONAL TRADE COMMISSION

[USITC SE-02-022]

Sunshine Act Meeting Notice

Agency Holding the Meeting: United States International Trade Commission.

Time and Date: August 8, 2002 at 2:00 p.m.

Place: Room 101, 500 E Street SW., Washington, DC 20436, Telephone: (202) 205-2000.

Status: Open to the public.

Matters to be Considered:

1. Agenda for future meeting: none.

2. Minutes.

3. Ratification List.

4. Inv. No. 731-TA-1012 (Preliminary) (Certain Frozen Fish Fillets from Vietnam)—briefing and vote. (The Commission is currently scheduled to transmit its determination to the Secretary of Commerce on or before August 12, 2002; Commissioners' opinions are currently scheduled to be transmitted to the Secretary of Commerce on or before August 19, 2002.).

5. Outstanding action jackets: none.

In accordance with Commission policy, subject matter listed above, not disposed of at the scheduled meeting, may be carried over to the agenda of the following meeting.

By order of the Commission.
Issued: July 26, 2002.
Marilyn R. Abbott,
Secretary to the Commission.

[FR Doc. 02-19424 Filed 7-29-02; 11:57 am]

BILLING CODE 7020-02-P